DEPARTMENT OF TRANSPORTATION

Federal Aviation Administration

14 CFR Parts 1, 91, 121, 125, and 135

[Docket No. FAA-2003-14449; Amendment Nos. 1-52; 91-281; 121-303; 125-45; 135-93]

RIN 2120-AH78

Enhanced Flight Vision Systems; Correction

AGENCY: Federal Aviation Administration (FAA), DOT.

ACTION: Final rule; correction.

SUMMARY: This document corrects the preamble of the final rule on Enhanced Flight Vision Systems published in the Federal Register of Friday, January 9, 2004 (69 FR 1620). The correction removes an incomplete sentence that was inadvertently included.

DATES: The regulation is effective February 9, 2004.

FOR FURTHER INFORMATION CONTACT: Les Smith, (202) 385-4586.

SUPPLEMENTARY INFORMATION: On January 9, 2004, the FAA published a final rule amending its regulations for landing under instrument flight rules (69 FR 1620; Jan. 9, 2004). The rule allows aircraft to operate below certain specified altitudes during instrument approach procedures, even when the airport environment is not visible using natural vision, if the pilot uses certain FAA-certified enhanced flight vision systems. The preamble of the final rule contained an incomplete sentence that was inadvertently included. This correction removes that sentence in its entirety.

In FR Doc. 04-427 published on January 9, 2004, on page 1634, in the third column, in the fourth line from the top of the page, remove the partial sentence that reads “Other technology solutions for conducting low visibility approach and landing operations, such as SVS, would require a different operational.”

Issued in Washington, DC on February 5, 2004.
Anthony F. Fazio,
Director, Office of Rulemaking.

[FR Doc. 04-2890 Filed 2-10-04; 8:45 am]

BILLING CODE 4910-13-P